DEPARTMENT OF ENERGY

Federal Energy Regulatory Commission

[Docket No. EL07-56-000]

Allegheny Electric Cooperative, Inc. Borough of Chambersburg, PA; City and Towns of Hagerstown, Thurmont, and Williamsport, MD; District of Columbia Office of the People's Counsel; Illinois Citizens Utility Board; Indiana Office of Utility Consumer Counsel; Maryland Office of People's Counsel; New Jersey Division of Rate Counsel; Office of the Attorney General of Virginia, Division of Consumer Counsel; Office of the Ohio Consumer's Counsel; Old Dominion Electric Cooperative; Pennsylvania Office of Consumer Advocate; PJM Industrial Customer Coalition; Southern Maryland Electric Cooperative, Inc.; State of Delaware, Division of the Public Advocate v. PJM Interconnection, L.L.C.; Notice of Designation of Commission Staff as Non-Decisional

April 20, 2007.

Effective April 19, 2007, Alan Haymes, of the Federal Energy Regulatory Commission (Commission), was designated as non-decisional staff in the above-captioned docket. As non-decisional staff, Mr. Haymes will not participate in an advisory capacity in deliberations on the issues pending therein. Separated non-decisional and advisory staffs are prohibited from communicating with one another concerning the deliberations set forth above.

Kimberly D. Bose,
Secretary.

[FR Doc. E7-7984 Filed 4-25-07; 8:45 am]

BILLING CODE 6717-01-P